DEPARTMENT OF ENERGY

Federal Energy Regulatory Commission

[Project Nos. P-2060-005, P-2084-020, P-2320-005 and P-2330-007]

Carry Falls Upper Raquette River Middle Raquette River Lower Raquette River; Notice of Meetings

June 22, 2001.

a. Date and Times of Meetings: July 30, 2001, 1 pm to 5 pm; July 31, 2001, 9 am to 5 pm.

b. Place: St. Regis Mohawk Tribe Reservation, Community Building, Route 37, Hogansburg, Franklin County, New York.

c. FERC Contact: James T. Griffin at (202) 219-2799; e-mail address: james.griffin@ferc.fed.us.

d. Purpose of the Meetings: To discuss issues arising under Section 106 of the National Historic Preservation Act with respect to the proposed re-licensing of the following Erie Boulevard Hydropower L.P. Projects: Carry Falls Project No. 2060-005, Upper Raquette River Project No. 2084-020, Middle Raquette River Project No. 2320-005, and Lower Raquette River Project No. 2330-007.

e. Proposed Agenda:

July 30: Site visit to Raymondville, Norfolk, East Norfolk, Norwood, and Higley hydroelectric developments, all located on the Raquette River in St. Lawrence County, New York.

July 31: section 106 issues discussion.

f. All local, state, and Federal agencies, Indian Tribes, and interested parties, are hereby invited to attend this meeting as participants.

David P. Boergers,
Secretary.

[FR Doc. 01-16222 Filed 6-27-01; 8:45 am]

BILLING CODE 6717-01-M